FEDERAL MARITIME COMMISSION

[Docket No. 20-20]

Astra Supply Chain, LLC and TDS Management, LLC, Complainants v. B&Q Freight China Limited, Respondent; Notice of Filing of Complaint and Assignment

Served: December 17, 2020.

Notice is given that a complaint has been filed with the Federal Maritime Commission (Commission) by Astra Supply Chain, LLC., and TDS Management, LLC, hereinafter “Complainants”, against B&Q Freight China Limited, hereinafter “Respondent”. Complainant alleges that Respondent is a foreign NVOCC registered with the Commission.

Complainant alleges that Respondent violated sections 10(b)(11) and 10(b)(12) of the Shipping Act of 1984, 46 U.S.C. 41102(c), and 46 CFR 515.32(c) with regard to a failure to release containers. The full text of the complaint can be found in the Commission's Electronic Reading Room at https://www2.fmc.gov/readingroom/proceeding/20-20/.

This proceeding has been assigned to Office of Administrative Law Judges. The initial decision of the presiding office in this proceeding shall be issued by December 17, 2021, and the final decision of the Commission shall be issued by June 17, 2022.

Rachel E. Dickon,
Secretary.

[FR Doc. 2020-28614 Filed 12-28-20; 8:45 am]

BILLING CODE 6730-02-P